DEPARTMENT OF THE TREASURY

Office of Thrift Supervision

[AC-19: OTS Nos. 08163, H3059, H3051, and H4399]

Baltimore County Savings Bank, F.S.B., Baltimore County Savings Bank, M.H.C., BCSB Bankcorp, Inc., and BCSB Bancorp, Inc., Baltimore, Maryland; Approval of Conversion Application

Notice is hereby given that on August 27, 2007, the Office of Thrift Supervision approved the application of Baltimore County Savings Bank, M.H.C., and Baltimore County Savings Bank, F.S.B, Baltimore, Maryland, to convert to the stock form of organization. Copies of the application are available for inspection by appointment (phone number: 202-906-5922 or e-mail: Public.Info@OTS.Treas.gov) at the Public Reading Room, 1700 G Street, NW., Washington, DC 20552, and OTS Southeast Regional Office, 1475 Peachtree Street, NE., Atlanta, GA 30309.

Dated: November 5, 2007.
By the Office of Thrift Supervision.
Sandra E. Evans,
Federal Register Liaison Officer.

[FR Doc. 07-5596 Filed 11-8-07; 8:45 am]

BILLING CODE 6720-07-M